DEPARTMENT OF HEALTH AND HUMAN SERVICES

Centers for Medicare and Medicaid Services

[Document Identifier: CMS-216 and CMS-10079]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Organ Procurement Organization/Histocompatibility Laboratory Statement of Reimbursable Costs, Manual Instructions and Supporting Regulations in 42 CFR, 413.20 and 413.24; Form No.: CMS-216 (OMB# 0938-0102); Use: This form is required by statute and regulation for participation in the Medicare program. The information is used to determine payment for Medicare. Organ Procurement Organizations and Histocompatibility Laboratories are the users; Frequency: Annually; Affected Public: Business or other for-profit, Not-for-profit institutions, and State, Local or Tribal Government; Number of Respondents: 108; Total Annual Responses: 108; Total Annual Hours: 4,860.

2. Type of Information Collection Request: New Collection: Title of Information Collection: Hospital Wage Index Occupational Mix Survey; Form No.: CMS-10079 (OMB# 0938-NEW); Use: In the May 4, 2001 Proposed Rule (66 FR 22674), CMS proposed to conduct a special survey to collect data from a sample of occupational categories that provide a valid measure of wage rates within a geographical area. In the August 1, 2001 Final Rule (66 FR 39860), we responded to comments from the Proposed Rule and stated that, CMS will conduct a special survey of all short-term acute-care hospitals that are required to report wage data to collect these data. Section 304 of the Medicare, Medicaid, and SCHIP Benefits Improvement and Protection Act of 2000 requires CMS to collect wage data on hospital employees by occupational category. The collection is to be completed by September 30, 2003 and to be used to adjust the wage index by October 1, 2004; Frequency: Other: once every three years; Affected Public: Business or other for-profit, and Not-for-profit institutions; Number of Respondents: 4,800; Total Annual Responses: 4,800; Total Annual Hours: 768,000.

To obtain copies of the supporting statement and any related forms for the proposed paperwork collections referenced above, access CMS's Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address:

CMS, Office of Strategic Operations and Regulatory Affairs, Division of Regulations Development and Issuances, Attention: Dawn Willinghan, Room: C5-14-03, 7500 Security Boulevard, Baltimore, Maryland 21244-1850.

Dated: March 27, 2003.
Dawn Willinghan,
Acting, Paperwork Reduction Act Team Leader, CMS Reports Clearance Officer, Office of Strategic Operations and Strategic Affairs, Division of Regulations Development and Issuances.

[FR Doc. 03-8177 Filed 4-3-03; 8:45 am]

BILLING CODE 4120-03-P